DEPARTMENT OF TRANSPORTATION

Federal Aviation Administration

Notice of Availability of a Draft Environmental Assessment for a Proposed Airport Traffic Control Tower and Base Building, Kalamazoo/Battle Creek International Airport, Portage City, MI

AGENCY: Federal Aviation Administration (FAA), DOT.

ACTION: Notice of Availability of a Draft Environmental Assessment for a Proposed Airport Traffic Control Tower and Base Building, Kalamazoo/Battle Creek International Airport, Portage City, Michigan.

SUMMARY: The Federal Aviation Administration (FAA) proposes to fund, construct, and operate a new Airport Traffic Control Tower (ATCT) and Base Building at the Kalamazoo/Battle Creek International Airport (AZO), Portage City, Michigan. The FAA's preferred alternative is to construct the ATCT at a location on the northeast portion of AZO. The purpose and need of the proposed project is to improve visibility of airport surfaces, have the capability to meet future operational and administrative expansion requirements, and increase the efficient functionality of the facility because the current ATCT and collocated Terminal Radar Approach Control facility are outdated and outmoded.

The FAA has prepared a Draft Environmental Assessment (DEA) in conformance with the requirements of the National Environmental Policy Act of 1969 (NEPA) and FAA Order 1050.1E, Environmental Impacts: Policies and Procedures. The DEA analyzes the potential environmental impacts that may result from construction and operation of the proposed new ATCT and Base Building at the proposed site, as well as the no action alternative (i.e., not constructing and operating the ATCT). As part of the proposed project, the DEA also analyzes the potential environmental impacts that may result from construction and operation of an ATCT access road and consequent relocation of a portion of the existing airport perimeter road. The DEA is available for public review during a 30-day public comment period at the following libraries:

Kalamazoo Public Library, Washington Square Branch, 1244 Portage Street, Kalamazoo, MI 49001.

Kalamazoo Public Library, Central Library, 315 S. Rose St., Kalamazoo, MI 49007.

Portage District Library, 300 Library Lane, Portage, MI 49002.

ADDRESSES: The FAA will accept written comments on the DEA until close of business on March 31, 2010. Comments on the DEA may be sent to: Ms. Virginia Marcks, FAA, AJW-C14D, 2300 East Devon Ave., Des Plaines, IL 60018, fax 847-294-7698, e-mail virginia.marcks@faa.gov. Copies of the Draft EA on compact disk may be obtained by contacting Ms. Virginia Marcks. Comments received on the DEA during the public comment period will be addressed in a Final Environmental Assessment.

FOR FURTHER INFORMATION CONTACT: Ms. Virginia Marcks, Manager, Infrastructure Engineering Center, Federal Aviation Administration, 2300 East Devon Avenue, Des Plaines, Illinois 60018. Telephone number: 847-294-7494. E-mail: virginia.marcks@faa.gov.

Issued in Des Plaines, Illinois, February 19, 2010.
Virginia Marcks,
Manager, Infrastructure Engineering Center, Chicago, AJW-C14D,
Central Service Area.

[FR Doc. 2010-3936 Filed 2-25-10; 8:45 am]

BILLING CODE 4910-13-P